DEPARTMENT OF COMMERCE

National Oceanic and Atmospheric Administration

[I.D. 121903B]

Marine Mammals; File No. 764-1703-00

AGENCY: National Marine Fisheries Service (NMFS), National Oceanic and Atmospheric Administration (NOAA), Commerce.

ACTION: Issuance of permit.

SUMMARY: Notice is hereby given that the National Museum of Natural History, Smithsonian Institution, Washington, D.C. 20008-2598 (Principal Investigator: Charles Potter), has been issued a permit to obtain, collect, and import/export specimens of marine mammals of the Orders Cetacea and Pinnipedia (except walrus) for purposes of scientific research.

ADDRESSES: The permit and related documents are available for review upon written request or by appointment in the following office(s): See SUPPLEMENTARY INFORMATION for addresses.

FOR FURTHER INFORMATION CONTACT: Ruth Johnson or Jennifer Skidmore 301/713-2289.

SUPPLEMENTARY INFORMATION: On October 9, 2003, notice was published in the Federal Register (68 FR 58316) that a request for a scientific research permit to collect, obtain, and import/export samples taken from marine mammals of the Orders Pinnipedia (except walrus) and Cetacea had been submitted by the above-named organization. The requested permit has been issued under the authority of the Marine Mammal Protection Act of 1972, as amended (16 U.S.C. 1361 et seq.), the Regulations Governing the Taking and Importing of Marine Mammals (50 CFR part 216), the Endangered Species Act of 1973, as amended (16 U.S.C. 1531 et seq.), the regulations governing endangered and threatened fish and wildlife (50 CFR parts 222-226), and the Fur Seal Act of 1966, as amended (16 U.S.C. 1151 et seq.).

Documents are available in the following offices:

Permits and Documentation Division, Office of Protected Resources, NMFS, 1315 East-West Highway, Room 13705, Silver Spring, MD 20910 (301/713-2289);

Assistant Regional Administrator for Protected Resources, Northwest Region, NMFS, 7600 Sand Point Way NE, BIN C15700, Bldg. 1, Seattle, WA 98115-0700; phone (206) 526-6150; fax (206) 526-6426;

Assistant Regional Administrator for Protected Resources, Alaska Region, NMFS, P.O. Box 21668, Juneau, AK 99802-1668; phone (907) 586-7235; fax (907) 586-7012;

Assistant Regional Administrator for Protected Resources, Southwest Region, NMFS, 501 West Ocean Blvd., Suite 4200, Long Beach, CA 90802-4213; phone (562) 980-4020; fax (562) 980-4027;

Coordinator, Pacific Islands Area Office, NMFS, 1601 Kapiolani Blvd., Suite 1110, Honolulu, HI 96814-4700; phone (808) 973-2935; fax (808) 973-2941;

Assistant Regional Administrator for Protected Resources, Northeast Region, NMFS, One Blackburn Drive, Gloucester, MA 01930-2298; phone (508) 281-9346; fax (508) 281-9371; and

Assistant Regional Administrator for Protected Resources, Southeast Region, NMFS, 9721 Executive Center Drive North, St. Petersburg, FL 33702-2432; phone (813) 570-5301; fax (813) 570-5517.

Dated: February 5, 2004.
Jennifer Skidmore,
Acting Chief, Permits, Conservation and Education Division, Office of Protected Resources, National Marine Fisheries Service.

[FR Doc. 04-3084 Filed 2-11-04; 8:45 am]

BILLING CODE 3510-22-S